DEPARTMENT OF DEFENSE

Department of the Air Force

HQ USAF Scientific Advisory Board

AGENCY: Department of the Air Force, DoD.

ACTION: Notice of meeting.

SUMMARY: Pursuant to Pub. L. 92-463, notice is hereby given of the forthcoming meeting of the Technology for Machine-to-Machine (MTM) Integration. The purpose of the meeting is to allow the SAB leadership to brief the Chief of Staff of the Air Force on the outcome of the Technology for Machine-to-Machine Integration. Because classified and contractor-proprietary information will be discussed, this meeting will be closed to the public.

DATES: September 2, 2003.

ADDRESSES: Pentagon.

FOR FURTHER INFORMATION CONTACT: The Air Force Scientific Advisory Board Secretariat, 1180 Air Force Pentagon, Room 5D982, Washington DC 20330-1180, (703) 697-4811.

Pamela D. Fitzgerald,
Air Force Federal Register Liaison Officer.

[FR Doc. 03-20815 Filed 8-14-03; 8:45 am]

BILLING CODE 5001-5-P